DEPARTMENT OF COMMERCE

Foreign-Trade Zones Board

[Order No. 1891]

Reorganization and Expansion of Foreign-Trade Zone 35 under Alternative Site Framework; Philadelphia, Pennsylvania

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Philadelphia Regional Port Authority, grantee of Foreign-Trade Zone 35, submitted an application to the Board (FTZ Docket B-75-2012, docketed 10/19/2012) for authority to reorganize under the ASF with a service area of Philadelphia, Delaware, Bucks, Montgomery, Chester, Lancaster and Berks Counties, Pennsylvania, in and adjacent to the Philadelphia Customs and Border Protection port of entry, FTZ 35's existing Sites 1-4, 6, 10 and 12 would be categorized as magnet sites, existing Sites 7, 8 and 11 as usage-driven sites and the grantee proposes three additional usage-driven sites (Sites 13-15);

Whereas, notice inviting public comment was given in the Federal Register (77 FR 64953, 10/24/2012) and the application has been processed pursuant to the FTZ Act and the Board's regulations; and,

Whereas, the Board adopts the findings and recommendations of the examiner's report, and finds that the requirements of the FTZ Act and the Board's regulations are satisfied;

Now, therefore, the Board hereby orders:

The application to reorganize and expand FTZ 35 under the ASF is approved, subject to the FTZ Act and the Board's regulations, including Section 400.13, to the Board's standard 2,000-acre activation limit for the zone, to a five-year ASF sunset provision for magnet sites that would terminate authority for Sites 1-4, 6, 10 and 12 if not activated by March 31, 2018, and to a three-year ASF sunset provision for usage-driven sites that would terminate authority for Sites 7, 8, 11, and 13-15 if no foreign-status merchandise is admitted for a bona fide customs purpose by March 31, 2016.

Signed at Washington, DC, this 27th day of March 2013.
Paul Piquado,
Assistant Secretary of Commerce for Import Administration, Alternate Chairman, Foreign-Trade Zones Board.

ATTEST:

Andrew McGilvray,
Executive Secretary.

[FR Doc. 2013-07757 Filed 4-3-13; 8:45 am]

BILLING CODE P